COMMITTEE FOR THE IMPLEMENTATION OF TEXTILE AGREEMENTS

Announcement of Import Restraint Limits for Certain Cotton, Wool, Man-Made Fiber, Silk Blend and Other Vegetable Fiber Textiles and Textile Products Produced or Manufactured in Hong Kong

November 28, 2000.

AGENCY: Committee for the Implementation of Textile Agreements (CITA).

ACTION: Issuing a directive to the Commissioner of Customs establishing limits.

EFFECTIVE DATE: January 1, 2001.

FOR FURTHER INFORMATION CONTACT: Naomi Freeman, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The import restraint limits for textile products, produced or manufactured in Hong Kong and exported during the period January 1, 2001 through December 31, 2001 are based on limits notified to the Textiles Monitoring Body pursuant to the Uruguay Round Agreement on Textiles and Clothing (ATC).

In the letter published below, the Chairman of CITA directs the Commissioner of Customs to establish the 2001 limits. These limits have been increased, variously, for adjustments permitted under the flexibility provisions of the ATC.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Richard B. Steinkamp,
Chairman, Committee for the Implementation of Textile Agreements.

Committee for the Implementation of Textile Agreements

November 28, 2000.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2001, entry into the United States for consumption and withdrawal from warehouse for consumption of cotton, wool, man-made fiber, silk blend and other vegetable fiber textiles and textile products in the following categories, produced or manufactured in Hong Kong and exported during the twelve-month period beginning on January 1, 2001 and extending through December 31, 2001, in excess of the following levels of restraint:

Category | Twelve-month restraint limit
Group I |
200-227, 300-326, 360-363, 369(1) ¹, 369pt. ², 400-414, 464, 469pt. ³, 600-629, 666, 669pt. ⁴ and 670, as a group | 261,507,986 square meters equivalent.
Sublevels in Group I
219 | 47,005,609 square meters.
218/225/317/326 | 78,830,202 square meters of which not more than 4,341,659 square meters shall be in Category 218(1) ⁵ (yarn dyed fabric other than denim and jacquard).
611 | 7,411,068 square meters.
617 | 4,675,864 square meters.
Group I subgroup
200, 226/313, 314, 315, 369(1) and 604, as a group | 126,152,367 square meters equivalent.
Within Group I subgroup
200 | 405,263 kilograms.
226/313 | 84,317,968 square meters.
314 | 22,739,544 square meters
315 | 11,242,508 square meters.
369(1) (shoptowels) | 923,905 kilograms.
604 | 278,186 kilograms.
Group II
237, 239pt. ⁶, 331-348, 350-352, 359(1) ⁷, 359(2) ⁸, 359pt. ⁹, 431, 433-438, 440-448, 459pt. ¹⁰, 631, 633-652, 659(1) ¹¹, 659(2) ¹², 659pt. ¹³, and 443/444/643/644/843/844(1), as a group | 901,076,901 square meters equivalent.
Sublevels in Group II
237 | 1,359,275 dozen.
331 | 4,463,147 dozen pairs.
333/334 | 326,126 dozen.
335 | 352,328 dozen.
338/339 ¹⁴ (shirts and blouses other than tank tops and tops, knit) | 2,994,680 dozen.
338/339(1) ¹⁵ (tank tops and knit tops) | 2,249,919 dozen.
340 | 2,867,722 dozen.
345 | 496,091 dozen.
347/348 | 6,944,700 dozen of which not more than 6,854,700 dozen shall be in Categories 347-W/348-W ¹⁶; and not more than 5,194,751 dozen shall be in Category 348-W.
352 | 7,995,074 dozen.
359(1) (coveralls, overalls and jumpsuits) | 687,640 kilograms.
359(2) (vests) | 1,433,187 kilograms.
433 | 10,974 dozen.
434 | 11,779 dozen.
435 | 78,838 dozen.
436 | 102,681 dozen.
438 | 843,303 dozen.
442 | 97,335 dozen.
443 | 64,785 numbers.
444 | 44,074 numbers.
445/446 | 1,393,867 dozen.
447/448 | 70,098 dozen.
631 | 754,418 dozen pairs.
633/634/635 | 1,462,845 dozen of which not more than 547,136 dozen shall be in Categories 633/634; and not more than 1,123,300 dozen shall be in Category 635.
638/639 | 5,027,449 dozen.
641 | 868,723 dozen.
644 | 51,169 numbers.
645/646 | 1,377,929 dozen.
647 | 627,574 dozen.
648 | 1,227,517 dozen of which not more than 1,212,727 dozen shall be in Category 648-W ¹⁷.
649 | 966,213 dozen.
650 | 199,809 dozen.
652 | 5,533,706 dozen.
659(1) (coveralls, overalls and jumpsuits) | 760,024 kilograms.
659(2) (swimsuits) | 319,071 kilograms.
443/444/643/644/843/844(1) (made-to-measure suits) | 60,987 numbers.
Group II subgroup
336, 341, 342, 350, 351, 636, 640, 642 and 651, as a group | 167,814,523 square meters equivalent.
Within Group II subgroup
336 | 262,531 dozen.
341 | 2,902,795 dozen.
342 | 606,407 dozen.
350 | 151,195 dozen.
351 | 1,226,009 dozen.
636 | 353,320 dozen.
640 | 1,070,858 dozen.
642 | 280,973 dozen.
651 | 382,638 dozen.
Group III
831, 833-838, 840-844, 847-858 and 859pt. ¹⁸, as a group | 48,732,782 square meters equivalent.
Sublevels in Group III
834 | 14,378 dozen.
835 | 119,843 dozen.
836 | 184,725 dozen.
840 | 711,880 dozen.
842 | 284,975 dozen.
847 | 382,306 dozen.
Limits not in a group
845(1) ¹⁹ (sweaters made in Hong Kong) | 1,134,387 dozen.
845(2) ²⁰ (sweaters assembled in Hong Kong from knit-to-shape components, knit elsewhere) | 2,715,291 dozen.
846(1) ²¹ (sweaters made in Hong Kong) | 183,441 dozen.
846(2) ²² (sweaters assembled in Hong Kong from knit-to-shape components, knit elsewhere) | 442,024 dozen.
¹ Category 369(1): only HTS number 6307.10.2005.
² Category 369pt.: all HTS numbers except 5601.10.1000, 5601.21.0090, 5701.90.1020, 5701.90.2020, 5702.10.9020, 5702.39.2010, 5702.49.1020, 5702.49.1080, 5702.59.1000, 5702.99.1010, 5702.99.1090, 5705.00.2020, 6406.10.7700 and HTS number in 369(1).
³ Category 469pt.: all HTS numbers except 5601.29.0020, 5603.94.1010 and 6406.10.9020.
⁴ Category 669pt.: all HTS numbers except 5601.10.2000, 5601.22.0090, 5607.49.3000, 5607.50.4000 and 6406.10.9040.
⁵ Category 218(1): all HTS numbers except 5209.42.0060, 5209.42.0080, 5211.42.0060, 5211.42.0080, 5514.32.0015 and 5516.43.0015.
⁶ Category 239pt.: only HTS number 6209.20.5040 (diapers).
⁷ Category 359(1): only HTS numbers 6103.42.2025, 6103.49.8034, 6104.62.1020, 6104.69.8010, 6114.20.0048, 6114.20.0052, 6203.42.2010, 6203.42.2090, 6204.62.2010, 6211.32.0010, 6211.32.0025 and 6211.42.0010.
⁸ Category 359(2): only HTS numbers 6103.19.2030, 6103.19.9030, 6104.12.0040, 6104.19.8040, 6110.20.1022, 6110.20.1024, 6110.20.2030, 6110.20.2035, 6110.90.9044, 6110.90.9046, 6201.92.2010, 6202.92.2020, 6203.19.1030, 6203.19.9030, 6204.12.0040, 6204.19.8040, 6211.32.0070 and 6211.42.0070.
⁹ Category 359pt.: all HTS numbers except 6406.99.1550 and HTS numbers in 359(1) and 359(2).
¹⁰ Category 459pt.: all HTS numbers except 6405.20.6030, 6405.20.6060, 6405.20.6090, 6406.99.1505 and 6406.99.1560.
¹¹ Category 659(1): only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
¹² Category 659(2): only HTS numbers 6112.31.0010, 6112.31.0020, 6112.41.0010, 6112.41.0020, 6112.41.0030, 6112.41.0040, 6211.11.1010, 6211.11.1020, 6211.12.1010 and 6211.12.1020.
¹³ Category 659pt.: all HTS numbers except 6406.99.1510, 6406.99.1540 and HTS numbers in 659(1) and 659(2).
¹⁴ Categories 338/339: all HTS numbers except 6109.10.0018, 6109.10.0023, 6109.10.0060, 6109.10.0065, 6114.20.0005 and 6114.20.0010.
¹⁵ Category 338/339(1): only HTS numbers 6109.10.0018, 6109.10.0023, 6109.10.0060, 6109.10.0065, 6114.20.0005 and 6114.20.0010.
¹⁶ Category 347-W: only HTS numbers 6203.19.1020, 6203.19.9020, 6203.22.3020, 6203.22.3030, 6203.42.4005, 6203.42.4010, 6203.42.4015, 6203.42.4025, 6203.42.4035, 6203.42.4045, 6203.42.4050, 6203.42.4060, 6203.49.8020, 6210.40.9033, 6211.20.1520, 6211.20.3810 and 6211.32.0040; Category 348-W: only HTS numbers 6204.12.0030, 6204.19.8030, 6204.22.3040, 6204.22.3050, 6204.29.4034, 6204.62.3000, 6204.62.4005, 6204.62.4010, 6204.62.4020, 6204.62.4030, 6204.62.4040, 6204.62.4050, 6204.62.4055, 6204.62.4065, 6204.69.6010, 6204.69.9010, 6210.50.9060, 6211.20.1550, 6211.20.6810, 6211.42.0030 and 6217.90.9050.
¹⁷ Category 648-W: only HTS numbers 6204.23.0040, 6204.23.0045, 6204.29.2020, 6204.29.2025, 6204.29.4038, 6204.63.2000, 6204.63.3000, 6204.63.3510, 6204.63.3530, 6204.63.3532, 6204.63.3540, 6204.69.2510, 6204.69.2530, 6204.69.2540, 6204.69.2560, 6204.69.6030, 6204.69.9030, 6210.50.5035, 6211.20.1555, 6211.20.6820, 6211.43.0040 and 6217.90.9060.
¹⁸ Category 859pt.: only HTS numbers 6115.19.8040, 6117.10.6020, 6212.10.5030, 6212.10.9040, 6212.20.0030, 6212.30.0030, 6212.90.0090, 6214.10.2000 and 6214.90.0090.
¹⁹ Category 845(1): only HTS numbers 6103.29.2074, 6104.29.2079, 6110.90.9024, 6110.90.9042 and 6117.90.9015.
²⁰ Category 845(2): only HTS numbers 6103.29.2070, 6104.29.2077, 6110.90.9022 and 6110.90.9040.
²¹ Category 846(1): only HTS numbers 6103.29.2068, 6104.29.2075, 6110.90.9020 and 6110.90.9038.
²² Category 846(2): only HTS numbers 6103.29.2066, 6104.29.2073, 6110.90.9018 and 6110.90.9036.

The limits set forth above are subject to adjustment pursuant to the provisions of the ATC and administrative arrangements notified to the Textiles Monitoring Body.

Products in the above categories exported during 2000 shall be charged to the applicable category limits for that year (see directive dated November 23, 1999) to the extent of any unfilled balances. In the event the limits established for that period have been exhausted by previous entries, such products shall be charged to the limits set forth in this directive.

The conversion factors for merged Categories 333/334, 633/634/635 and 638/639 are 33, 33.90 and 13, respectively. The conversion factor for Category 239pt. is 8.79.

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

Richard B. Steinkamp,

Chairman, Committee for the Implementation of Textile Agreements.

[FR Doc. 00-30800 Filed 12-01-00; 8:45 am]

BILLING CODE 3510-DR-F